DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of July 26, 2010 through July 30, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
72,362 | P.M. Kelly, Inc., Realty Road | Ashland, ME | September 18, 2008.
72,653 | Da-Tech Corporation, Leased Workers from Judge Technical Services, Synerfac Technical, etc | Ivyland, PA | September 24, 2008.
72,905 | Precision Mold & Engineering, Inc. | Warren, MI | November 19, 2008.
72,996 | Sunrise Tool and Die, Inc. | Henderson, KY | November 20, 2008.
73,040 | Thyssenkrupp Presta Steering Group | Ladson, SC | December 1, 2008.
73,469 | Charles D. Owen Mfg. Co. Inc., Springs Global U.S., Inc. | Swannanoa, NC | February 2, 2009.
73,557 | Narriot Industries, LLC | Boykins, VA | February 22, 2009.
73,769 | Flexsteel Industries, Inc., Leased Workers from Sedona Staffing | Dubuque, IA | February 12, 2010.
73,771 | Technicolor Video Cassette of Michigan, Thomson, Home Entertainment Services, Leased Workers Select Staffing, etc | Detroit, MI | March 1, 2009.
73,964 | Prestolite Wire Corporation, Leased Workers from Express Services and Staffmark | Paragould, AR | April 14, 2009.
74,081 | General Motors Vehicle Manufacturing, General Motors Corp., Leased Workers Aerotek and Kelly Services | Shreveport, LA | August 28, 2010.

The following certifications have been issued. The requirements of Section 222(a)(2)(B) (shift in production or services) of the Trade Act have been met.

TA-W No. | Subject firm | Location | Impact date
72,377 | Match.Com, Workers Whose Wages are Reported Under PRC | Jacksonville, NC | September 21, 2008.
72,408 | Capmark Capital, Inc., Capmark Financial Group, Debtor in Possession, Leased Workers Spherion and ACS | Granville, OH | September 24, 2008.
72,716 | Freeport-McMoran Safford, Inc., Including All Reclamation Group Employees | Safford, AZ | October 21, 2008.
72,829 | Circuit Services Worldwide, Subsidiary of Pan-Co International Company, Ltd | Bellevue, WA | November 9, 2008.
73,248 | Ellcon National, Machine Shop In Plant One, Faverly Transport, Leased On-Site Workers Aerotek | Greenville, SC | January 10, 2009.
73,271 | Dakota Imaging | El Paso, TX | January 12, 2009.
73,376 | Wacker Neuson Corporation, Wacher Neuson SE | Menomonee Falls, WI | January 27, 2009.
73,379 | Bombardier Transportation, Bombardier Mass Transit, Leased Workers form Eastern Technical Services | Plattsburgh, NY | January 26, 2009.
73,491 | Farley's & Sathers Candy Company, Inc., Leased Workers from Select Staffing | Chattanooga, TN | February 4, 2009.
73,493 | MEMC Electronic Materials, Inc., Southwest, Leased Workers from Kelly Services | Sherman, TX | February 5, 2009.
73,652 | Robert Bosch, LLC, Leased Workers from Aerotek, Cucor U.S., etc | Plymouth, MI | February 10, 2009.
73,652A | Robert Bosch, LLC, Leased Workers from Aerotek, Cucor U.S., etc | Farmington Hills, MI | February 10, 2009.
73,679 | Liz Claiborne, Inc., Finance Division | North Bergen, NJ | February 18, 2009.
73,768 | Local Insight Media, Inc., Corporate Services Division | Englewood, CO | March 22, 2009.
73,824 | Honeywell International, Inc., Automation and Control Solutions Division | Rock Island, IL | March 29, 2009.
73,870 | Amphenol TCS | Milpitas, CA | April 6, 2009.
73,872 | Goodrich Corporation, Landing Gear Division | Cleveland, OH | March 18, 2009.
73,914 | Damco USA, Inc., Finance Division | Madison, NJ | April 13, 2009.
74,033 | SuperMedia, Inc., Formerly Idearc Media LLC, Publishing Operations Group | St. Petersburg, FL | May 2, 2009.
74,051 | Bowne Technology Enterprise, LLC, Bowne and Company, Inc., Help Desk Division | Piscataway, NJ | May 5, 2009.
74,105 | Liz Claiborne, Inc., Corporate Manufacturing Department | North Bergen, NJ | May 12, 2009.
74,144 | Hoffmann-LaRoche, Inc., Pharmaceutical Manufacturing, Technical Operations and Quality Management | Nutley, NJ | May 11, 2009.
74,178 | Microsemi Corp. Massachusetts, Testing Services | Lawrence, MA | May 19, 2009.
74,266 | Prudential Insurance Company of America, Prudential Retirement | Moosic, PA | June 17, 2009.
74,266A | Prudential Insurance Company of America, Prudential Retirement | Dubuque, IA | June 17, 2009.
74,283 | Highland Lakes Software, Inc. | Austin, TX | June 15, 2009.
74,287 | National Sales Company, Stanley Black and Decker, Leased Workers of Lumea Staffing | Sterling, IL | June 21, 2009.
74,288 | National Manufacturing Company, Stanley Black & Decker, Stanley National Hardware, Leased Workers Lumea Staff | Rock Falls, IL | June 21, 2009.
74,298 | The Travelers Indemnity Company, Travelers Companies, Workers' Compensation Statistical Reporting | Hartford, CT | June 22, 2009.
74,306 | HAVI Logistics, North America, Havi Group, LP | Livonia, MI | June 25, 2009.
74,313 | Becton, Dickinson, and Company, BD Medical; Sharps Disposal Systems, Leased Workers The Eastridge Group, etc | Oceanside, CA | June 8, 2009.
74,322 | PerTronix, Inc. | Rancho Dominguez, CA | June 25, 2009.
74,332 | Andrew Wireless Solution, CommScope, Leased Workers Manpower and Griffith Security | Newton, NC | June 29, 2009.
74,420 | Frank Russell Company, Administrative Service Center | Tacoma, WA | July 21, 2009.

The following certifications have been issued. The requirements of Section 222(c) (supplier to a firm whose workers are certified eligible to apply for TAA) of the Trade Act have been met.

TA-W No. | Subject firm | Location | Impact date
72,850 | Kasto, Inc., Keuro Besitz GMBH & Co, Leased Workers of Industrial Employees, etc | Export, PA | November 13, 2008.
73,348 | Hayes Enterprises, Inc. | Potomac, MT | January 18, 2009.
73,910 | Cranberry Lumber Company | Beckley, WV | April 14, 2009.
74,026 | Form Tech Fraser | Fraser, MI | April 8, 2009.

The following certifications have been issued. The requirements of Section 222(c) (downstream producer for a firm whose workers are certified eligible to apply for TAA) of the Trade Act have been met.

TA-W No. | Subject firm | Location | Impact date
72,222 | YRC, Inc., YRC Worldwide, Inc. | Richfield, OH | September 3, 2008.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W No. | Subject firm | Location | Impact date
72,901 | Sequel Software, Inc. | Durango, CO
73,939 | C3I, Inc., Leased Workers from Manpower and Express | Wilkes-Barre, PA

The investigation revealed that the criteria under paragraphs (a)(2)(A)(i) (decline in sales or production, or both) and (a)(2)(B) (shift in production or services to a foreign country) of section 222 have not been met.

TA-W No. | Subject firm | Location | Impact date
74,270 | Lockheed Martin Systems Integration | Owego, NY
74,270A | Lockheed Martin Systems Integration | Endicott, NY
74,270B | Lockheed Martin Systems Integration | Endicott, NY
74,270C | Lockheed Martin Systems Integration | Apalachin, NY
74,270D | Lockheed Martin Systems Integration | Owego, NY

The investigation revealed that the criteria under paragraphs(a)(2)(A) (increased imports) and (a)(2)(B) (shift in production or services to a foreign country) of section 222 have not been met.

TA-W No. | Subject firm | Location | Impact date
72,249 | CJ's Wholesale Socks, Inc. | Fort Payne, AL.
72,359 | Nielsen Hardware, Actuant Corporation | Berlin, CT.
72,515 | Precision Custom Coatings | Totowa, NJ.
72,917 | Circuit City, Inc., Bethlehem Distribution Center | Bethlehem, PA.
73,005 | Camcar Aerospace | Rockford, IL.
73,154 | Transcom Enhanced Services, Inc. | Fort Worth, TX.
73,156 | American Spring Wire Corp. | Kankakee, IL.
73,161 | Oglebay Norton Industrial Sands, Inc., D/B/A Carmeuse Industrial Sands | Brady, TX.
73,212 | Ryko Manufacturing Co. | Grimes, IA.
73,285 | Bowne of Chicago, Inc., dba Bowne of Minneapolis, Leased Workers Randstad Staffing Services, etc | Minneapolis, MN.
73,301 | Shieldalloy Metallurgical Corp., A Subsidiary of AMG | Newfield, NJ.
73,401 | DEP, Inc., DBA Edward Ferrel/Lewis Mittman, Leased Workers from Graham Personelle | High Point, NC.
73,841 | HSBC Finance Corporation, HSBC North America Holdings, Inc. | Dayton, OH.
73,894 | United Auto Workers Local 2244 | Fremont, CA.
74,334 | Buehler Motor, Inc., Buhler Motor GMBH, Leased Workers From Manpower | Morrisville, NC.
74,415 | New Page Corporation, Kimberly Mill | Kimberly, WI.

The investigation revealed that the criteria under paragraphs (b)(2) and (b)(3) (public agency acquisition of services from a foreign country) of section 222 have not been met.

TA-W No. | Subject firm | Location | Impact date
74,029 | Mohican Juvenile Correctional Facility | Perrysville, OH.

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
72,537 | McQuay International | Verona, VA. |
72,645 | Enterprise Tool and Die | Grandville, MI. |
73,886 | Burton Snowboards, Inc | South Burlington, VT. |
74,043 | American Superconductor Corporation | West Mifflin, PA. |
74,083 | Siemens | Ballefontaine, OH. |
74,190 | Dyrsmith, LLC, DBA Precision-works Manufacturing | Auburn, CA. |
74,360 | CR Compressors, LLC | Decatur, AL. |
74,361 | CR Compressors, LLC | Hartselle, AL. |

The following determinations terminating investigations were issued because the petitioning groups of workers are covered by active certifications. Consequently, further investigation in these cases would serve no purpose since the petitioning group of workers cannot be covered by more than one certification at a time.

TA-W No. | Subject firm | Location | Impact date
73,998 | Dupont Performance Coatings, On-Site at New United Motor Manufacturing, Inc | Fremont, CA. |

The following determinations terminating investigations were issued because the petitions are the subject of ongoing investigations under petitions filed earlier covering the same petitioners.

TA-W No. | Subject firm | Location | Impact date
74,344 | Hanes Brands, Inc | Winston Salem, NC. |

The following determinations terminating investigations were issued because the Department issued a negative determination on petitions related to the relevant investigation period applicable to the same worker group. The duplicative petitions did not present new information or a change in circumstances that would result in a reversal of the Department's previous negative determination, and therefore, further investigation would duplicate efforts and serve no purpose.

TA-W No. | Subject firm | Location | Impact date
73,741 | Kenco | Lexington, KY. |
73,953 | Freescale Semiconductor, Inc | Woburn, MA. |

I hereby certify that the aforementioned determinations were issued during the period of July 26, 2010 through July 30, 2010. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's Web site at http://www.doleta.gov/tradeact under the searchable listing of determinations.

Dated: August 4, 2010.
Elliott S. Kushner,
Certifying Officer, Division of Trade Adjustment Assistance .

[FR Doc. 2010-20039 Filed 8-12-10; 8:45 am]

BILLING CODE 4510-FN-P